ENVIRONMENTAL PROTECTION AGENCY

[FRL-7952-4]

Proposed Settlement Agreement, Clean Air Act Citizen Suit

AGENCY: Environmental Protection Agency (EPA).

ACTION: Notice of Proposed Settlement Agreement; request for public comment.

SUMMARY: In accordance with section 113(g) of the Clean Air Act, as amended (“Act”), 42 U.S.C. 7413(g), notice is hereby given of a proposed settlement agreement to address a lawsuit filed by the Interstate Natural Gas Association of America: Interstate Natural Gas Association of America v. EPA, No. 04-1296 (DC Cir.). On September 1, 2004, the Interstate Natural Gas Association of America (“Petitioner”) filed a Petition for Review of EPA's final rule pursuant to 42 U.S.C. 7607 and Rule 15 of the Federal Rules of Appellate Procedure. Petitioner challenged the EPA's final rule entitled “Standards of Performance for Stationary Gas Turbines” published on July 8, 2004 (69 FR 41346). The standards of performance for stationary gas turbines are set forth in 40 CFR part 60, subpart GG. Under the terms of the proposed settlement agreement, EPA will undertake rulemaking to make certain amendments to the rule at issue. No later than 60 days after the date this Agreement becomes final, EPA shall sign either a notice of proposed rulemaking or a notice of direct final rulemaking and concurrent proposal to amend certain provisions of 40 CFR 60.334 and 60.335. The amendments to these sections of subpart GG will be made in order to clarify our intent that nothing in the amendments to subpart GG was meant to impose new requirements for turbines constructed after 1977, when subpart GG was initially promulgated, that do not use water or steam injection to control NOX emissions.

DATES: Written comments on the proposed settlement agreement must be received by September 14, 2005.

ADDRESSES: Submit your comments, identified by docket ID number OAR-2002-0053, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Thomas W. Swegle, Air and Radiation Law Office (2344A), Office of General Counsel, U.S. Environmental Protection Agency, 1200 Pennsylvania Ave., NW., Washington, DC 20460; telephone: (202) 564-5546.

SUPPLEMENTARY INFORMATION:

I. Additional Information About the Proposed Settlement

Petitioner filed a petition for review of EPA's final rule entitled “Standards of Performance for Stationary Gas Turbines” 69 FR 41346 (July 8, 2004), challenging the final rule. The final rule consisted of amendments to several sections of the standards of performance in 40 CFR part 60, subpart GG that were promulgated to codify several alternative testing and monitoring procedures that have been routinely approved by EPA Once implemented the Settlement Agreement (the “Agreement”) would resolve the petition for review. The Agreement, which is subject to section 113(g) of the Clean Air Act, provides that EPA shall sign either a notice of proposed rulemaking or a notice of direct final rulemaking and concurrent proposal to amend provisions at 40 CFR 60.334(c), (e), (f) and (j) and 60.335(b)(8) relating to the monitoring of certain turbines that do not use water or steam injection to control NOX emissions. The amendments will clarify that nothing in the provisions of subpart GG was meant to impose new monitoring requirements for turbines that do not use water or steam injection to control NOX emissions. Owners and operators of existing and new turbines may use monitoring that meets the pre-existing monitoring requirements of subpart GG. In addition, the regulations as amended under the terms of the Agreement will describe a number of acceptable compliance monitoring options that owners and operators may elect to use for these units.

For a period of thirty (30) days following the date of publication of this notice, the Agency will receive written comments relating to the proposed Agreement from persons who were not named as parties or interveners to the litigation in question. EPA or the Department of Justice may withdraw or withhold consent to the proposed Agreement if the comments disclose facts or considerations that indicate that such consent is inappropriate, improper, inadequate, or inconsistent with the requirements of the Act. Unless EPA or the Department of Justice determine, based on any comment which may be submitted, that consent to the Agreement should be withdrawn, the terms of the Agreement will be affirmed.

II. Additional Information About Commenting on the Proposed Settlement

A. How Can I Get a Copy of the Settlement Agreement?

EPA has established an official public docket for this action under Docket ID No. OAR-2002-0053 which contains a copy of the Settlement Agreement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket identification number.

It is important to note that EPA's policy is that public comments, whether submitted electronically or in paper, will be made available for public viewing in EPA's electronic public docket as EPA receives them and without change, unless the comment contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and to Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD-ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Your use of EPA's electronic public docket to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through EPA's electronic public docket, your e-mail address is automatically captured and included as part of the comment that is placed in the official public docket, and made available in EPA's electronic public docket.

Dated: August 5, 2005.
Richard B. Ossias,
Acting Associate General Counsel, Air and Radiation Law Office, Office of General Counsel.

[FR Doc. 05-16112 Filed 8-12-05; 8:45 am]

BILLING CODE 6560-50-P